DEPARTMENT OF HEALTH AND HUMAN SERVICES

Administration for Children and Families

Submission for OMB Review; Comment Request

Title: Form ACF-696T, “Child Care and Development Fund Annual Financial Report for Tribes”.

OMB No.: 0970-0195.

Description: This form is used by Tribes and Tribal Organizations that have been approved as grantees to administer the Child Care and Development Fund program (CCDF). This form is submitted annually to report CCDF program expenditures to the Administration for Children and Families.

The authority to collect and report this information can be found in Section 658G of the Child Care and Development Block Grant Act of 1990 (Pub. L. 101-508), as amended, and in Federal regulations at 45 CFR 98.65(g) and 98.67(c)(1) which authorize the Secretary to require financial reports as necessary.

Respondents: Tribes and Tribal Organizations.

Annual Burden Estimates
Instrument | Number of respondents | Number of responses per respondent | Average burden hours per response | Total burden hours
Form ACF-696T, “Child Care and Development Fund Annual Financial Report for Tribes” | 272 | 1 | 6 | 1,632

Estimated Total Annual Burden Hours: 1,632.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-24588 Filed 10-11-16; 8:45 am]

BILLING CODE 4184-01-P